DEPARTMENT OF TRANSPORTATION

Office of the Secretary

Notice of Applications for Certificates of Public Convenience and Necessity and Foreign Air Carrier Permits Filed Under Subpart B (Formerly Subpart Q) During the Week Ending November 8, 2002

The following Applications for Certificates of Public Convenience and Necessity and Foreign Air Carrier Permits were filed under subpart B (formerly subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-1998-3419.

Date Filed: November 5, 2002.

Due Date for Answers, Conforming Applications, or Motion to Modify Scope: November 26, 2002.

Description: Application of American Airlines, Inc., pursuant to 49 U.S.C. 41101, 14 CFR part 377 and subpart B, requesting renewal and amendment of its certificate for Route 752, authorizing American to engage in scheduled foreign air transportation of persons, property, and mail between Chicago/New York-Tokyo and Dallas/Ft. Worth-Osaka, and to substitute Los Angeles for Boston as a U.S. gateway to Tokyo.

Andrea M. Jenkins,
Federal Register Liaison.

[FR Doc. 02-29228 Filed 11-18-02; 8:45 am]

BILLING CODE 4910-62-P